DEPARTMENT OF TRANSPORTATION

Surface Transportation Board

[Docket No. AB 1053X]

Michigan Air-Line Railway Co.—Abandonment Exemption—in Oakland County, MI

Michigan Air-Line Railway Co. (MAL Railway), filed a verified notice of exemption under 49 CFR pt. 1152 subpart F-Exempt Abandonments to abandon approximately 2.37 miles of its line of railroad extending westerly from Engineer's Profile Station 2250+20 at the west line of Arrowhead Road to Engineer's Profile Station 2389+72 at the west line of Haggerty Road, in West Bloomfield Township, Oakland County, Mich.¹ The line traverses United States Postal Service Zip Codes 48322 and 48323.

¹ On July 14, 2010, MAL Railway amended its notice of exemption.

MAL Railway has certified that: (1) No local traffic has moved over the line for at least 2 years; (2) there is no overhead traffic on the line that has been or would need to be rerouted; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental report), 49 CFR 1105.8 (historic report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on August 27, 2010, unless stayed pending reconsideration. Petitions to stay that do not involve environmental issues,² formal expressions of intent to file an OFA under 49 CFR 1152.27(c)(2),³ and trail use/rail banking requests under 49 CFR 1152.29 must be filed by August 9, 2010.⁴ Petitions to reopen or requests for public use conditions under 49 CFR 1152.28 must be filed by August 17, 2010, with the Surface Transportation Board, 395 E Street, SW., Washington, DC 20423-0001.

² The Board will grant a stay if an informed decision on environmental issues (whether raised by a party or by the Board's Section of Environmental Analysis (SEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,500. See 49 CFR 1002.2(f)(25).

⁴ MAL Railway states that, upon abandonment of the line, it proposes to effectuate an agreement with the Parks & Recreation Commission of West Bloomfield Township (WBPRC) whereby WBPRC has agreed to purchase the right-of-way for use as a recreational trail.

A copy of any petition filed with the Board should be sent to MAL Railway's representative: W. Robert Alderson, Alderson, Alderson, Weiler, Conklin, Burghart & Crow, L.L.C., 2101 SW., 21st Street, Topeka, KS 66604.

If the verified notice contains false or misleading information, the exemption is void ab initio.

MAL Railway has filed a combined environmental and historic report which addresses the effects, if any, of the abandonment on the environment and historic resources. SEA will issue an environmental assessment (EA) by August 2, 2010. Interested persons may obtain a copy of the EA by writing to SEA (Room 1100, Surface Transportation Board, Washington, DC 20423-0001) or by calling SEA, at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), MAL Railway shall file a notice of consummation with the Board to signify that it has exercised the authority granted and fully abandoned the line. If consummation has not been effected by MAL Railway's filing of a notice of consummation by July 28, 2011, and there are no legal or regulatory barriers to consummation, the authority to abandon will automatically expire.

Board decisions and notices are available on our Web site at www.stb.dot.gov.

Decided: July 20, 2010.
By the Board, Joseph H. Dettmar Acting Director, Office of Proceedings.
Jeffrey Herzig,
Clearance Clerk.

[FR Doc. 2010-18228 Filed 7-27-10; 8:45 am]

BILLING CODE 4915-01-P